DEPARTMENT OF ENERGY

Federal Energy Regulatory Commission

Sunshine Act Meeting

April 7, 2004.

The following notice of meeting is published pursuant to section 3(a) of the Government in the Sunshine Act (Pub. L. 94-409), 5 U.S.C 552b:

Agency Holding Meeting: Federal Energy Regulatory Commission.

Date and Time: April 14, 2004, 10 a.m.

Place: Room 2C, 888 First Street, NE., Washington, DC 20426.

Status: Open.

Matters To Be Considered: Agenda

*Note: —Items listed on the Agenda may be deleted without further notice.

Contact Person for More Information: Magalie R. Salas, Secretary, Telephone (202) 502-8400 for a Recording Listing Items Stricken From or Added to the Meeting, Call (202) 502-8627.

This is a List of Matters to be Considered by the Commission. It Does Not Include a Listing of All Papers Relevant to the Items on the Agenda; However, All Public Documents May be Examined in the Reference and Information Center.

Administrative Agenda

A-1.

DOCKET# AD02-1, 000, AGENCY ADMINISTRATIVE MATTERS

A-2.

DOCKET# AD02-7, 000, CUSTOMER MATTERS, RELIABILITY, SECURITY AND MARKET OPERATIONS

A-3.

DOCKET# MO04-3, 000, REGIONAL MARKET MONITOR STATE OF MARKET PRESENTATIONS

Markets, Tariffs and Rates—Electric

E-1.

DOCKET# ER96-2495, 016, AEP POWER MARKETING, INC., AEP SERVICE CORPORATION, CSW POWER MARKETING, INC., CSW ENERGY SERVICES, INC., AND CENTRAL AND SOUTH WEST SERVICES, INC.

OTHER#S ER96-2495, 017, AEP POWER MARKETING, INC., AEP SERVICE CORPORATION, CSW POWER MARKETING, INC., CSW ENERGY SERVICES, INC., AND CENTRAL AND SOUTH WEST SERVICES, INC.

ER97-1238, 011, AEP POWER MARKETING, INC., AEP SERVICE CORPORATION, CSW POWER MARKETING, INC., CSW ENERGY SERVICES, INC., AND CENTRAL AND SOUTH WEST SERVICES, INC.

ER97-1238, 012, AEP POWER MARKETING, INC., AEP SERVICE CORPORATION, CSW POWER MARKETING, INC., CSW ENERGY SERVICES, INC., AND CENTRAL AND SOUTH WEST SERVICES, INC.

ER97-4143, 004, AEP POWER MARKETING, INC., AEP SERVICE CORPORATION, CSW POWER MARKETING, INC., CSW ENERGY SERVICES, INC., AND CENTRAL AND SOUTH WEST SERVICES, INC.

ER97-4143, 005, AEP POWER MARKETING, INC., AEP SERVICE CORPORATION, CSW POWER MARKETING, INC., CSW ENERGY SERVICES, INC., AND CENTRAL AND SOUTH WEST SERVICES, INC.

ER98-542, 006, AEP POWER MARKETING, INC., AEP SERVICE CORPORATION, CSW POWER MARKETING, INC., CSW ENERGY SERVICES, INC., AND CENTRAL AND SOUTH WEST SERVICES, INC.

ER98-542, 007, AEP POWER MARKETING, INC., AEP SERVICE CORPORATION, CSW POWER MARKETING, INC., CSW ENERGY SERVICES, INC., AND CENTRAL AND SOUTH WEST SERVICES, INC.

ER98-2075, 010, AEP POWER MARKETING, INC., AEP SERVICE CORPORATION, CSW POWER MARKETING, INC., CSW ENERGY SERVICES, INC., AND CENTRAL AND SOUTH WEST SERVICES, INC.

ER98-2075, 011, AEP POWER MARKETING, INC., AEP SERVICE CORPORATION, CSW POWER MARKETING, INC., CSW ENERGY SERVICES, INC., AND CENTRAL AND SOUTH WEST SERVICES, INC.

ER91-569, 018, ENTERGY SERVICES, INC.

ER91-569, 019, ENTERGY SERVICES, INC.

ER97-4166, 010, SOUTHERN COMPANY ENERGY MARKETING L.P.

ER97-4166, 011, SOUTHERN COMPANY ENERGY MARKETING L.P.

PL02-8, 000, CONFERENCE ON SUPPLY MARGIN ASSESSMENT

E-2.

DOCKET# RM04-7, 000, MARKET-BASED RATES FOR PUBLIC UTILITIES

E-3.

OMITTED

E-4.

OMITTED

E-5.

DOCKET# ER02-2189, 001, SOUTHERN CALIFORNIA EDISON COMPANY

E-6.

DOCKET# PL04-5, 000, POLICY STATEMENT ON MATTERS RELATED TO BULK POWER SYSTEM RELIABILITY

E-7.

DOCKET# EL04-52, 000, REPORTING BY TRANSMISSION PROVIDERS ON VEGETATION MANAGEMENT PRACTICES RELATED TO DESIGNATED TRANSMISSION FACILITIES

E-8.

DOCKET# PL03-1, 000, PRICING POLICY FOR EFFICIENT OPERATION AND EXPANSION OF TRANSMISSION GRID

E-9.

DOCKET# EL00-95, 045, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

OTHER#S EL00-95, 083, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

EL00-95, 087, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

EL00-98, 042, INVESTIGATION OF PRACTICES OF THE CALIFORNIA INDEPENDENT SYSTEM OPERATOR AND THE CALIFORNIA POWER EXCHANGE

EL00-98, 071, INVESTIGATION OF PRACTICES OF THE CALIFORNIA INDEPENDENT SYSTEM OPERATOR AND THE CALIFORNIA POWER EXCHANGE

EL00-98, 074, INVESTIGATION OF PRACTICES OF THE CALIFORNIA INDEPENDENT SYSTEM OPERATOR AND THE CALIFORNIA POWER EXCHANGE

E-10.

DOCKET# ER04-564, 000, WAYNE-WHITE COUNTIES ELECTRIC COOPERATIVE

E-11.

DOCKET# ER04-517, 000, CALPEAK POWER, LLC

OTHER#S ER04-517, 001 CALPEAK POWER, LLC

E-12.

DOCKET# ER04-215, 000 PACIFIC GAS AND ELECTRIC COMPANY

E-13.

DOCKET# ER04-337, 000, PACIFIC GAS AND ELECTRIC COMPANY

OTHER#S ER04-337, 001, PACIFIC GAS AND ELECTRIC COMPANY

ER04-337, 002, PACIFIC GAS AND ELECTRIC COMPANY

ER04-337, 003, PACIFIC GAS AND ELECTRIC COMPANY

E-14.

OMITTED

E-15.

DOCKET# ER03-708, 000, PACIFIC GAS AND ELECTRIC COMPANY

E-16.

DOCKET# ER03-901, 000, MIDWEST INDEPENDENT TRANSMISSION SYSTEM OPERATOR, INC.

E-17.

OMITTED

E-18.

DOCKET# ER04-142, 000, PACIFIC GAS AND ELECTRIC COMPANY

OTHER#S ER04-143, 000, PACIFIC GAS AND ELECTRIC COMPANY

ER04-295, 000, PACIFIC GAS AND ELECTRIC COMPANY

E-19.

OMITTED

E-20.

DOCKET# ER03-683, 002, CALIFORNIA INDEPENDENT SYSTEM OPERATOR CORPORATION

OTHER#S ER03-683, 003, CALIFORNIA INDEPENDENT SYSTEM OPERATOR CORPORATION

E-21.

DOCKET# ER01-2201, 004, ENTERGY SERVICES, INC.

OTHER#S ER01-2201, 005, ENTERGY SERVICES, INC.

EL02-46, 003, ENTERGY SERVICES, INC.

EL02-46, 004, ENTERGY SERVICES, INC.

E-22.

DOCKET# QF86-681, 005, ORMESA LLC

E-23.

DOCKET# ES03-43, 000, AQUILA, INC.

OTHER#S ES03-43, 001, AQUILA, INC.

ES03-43, 002, AQUILA, INC.

ES03-43, 003, AQUILA, INC.

ES03-43, 004, AQUILA, INC.

ES04-13, 000, AQUILA, INC.

E-24.

DOCKET# EL00-95, 087, SAN DIEGO GAS & ELECTRIC COMPANY V. SELLERS OF ENERGY AND ANCILLARY SERVICES INTO MARKETS OPERATED BY THE CALIFORNIA INDEPENDENT SYSTEM OPERATOR AND THE CALIFORNIA POWER EXCHANGE

OTHER#S EL00-98, 074, INVESTIGATION OF PRACTICES OF THE CALIFORNIA INDEPENDENT SYSTEM OPERATOR AND THE CALIFORNIA POWER EXCHANGE

E-25.

DOCKET# EL01-93, 007, MIRANT AMERICAS ENERGY MARKETING, L.P., MIRANT NEW ENGLAND, LLC, MIRANT KENDALL, LLC, AND MIRANT, LLC V. ISO NEW ENGLAND INC.

E-26.

DOCKET# ER03-683, 001, CALIFORNIA INDEPENDENT SYSTEM OPERATOR CORPORATION

E-27.

OMITTED

E-28.

DOCKET# EL03-133, 001, AMERICAN REF-FUEL COMPANY, COVANTA ENERGY GROUP, MONTENAY POWER CORPORATION, AND WHEELABRATOR TECHNOLOGIES, INC.

E-29.

OMITTED

E-30.

OMITTED

E-31.

OMITTED

E-32.

DOCKET# ER04-115, 001, CALIFORNIA INDEPENDENT SYSTEM OPERATOR CORPORATION

OTHER#S EL04-47, 001, CALIFORNIA INDEPENDENT SYSTEM OPERATOR CORPORATION

EL04-50, 000, PACIFIC GAS & ELECTRIC COMPANY

ER04-242, 000, PACIFIC GAS AND ELECTRIC COMPANY

E-33.

OMITTED

E-34.

OMITTED

E-35.

OMITTED

E-36.

DOCKET# ER04-190, 002, MIDWEST GENERATION EME, LLC

OTHER#S EL04-22, 001, MIDWEST GENERATION EME, LLC V. COMMONWEALTH EDISON COMPANY AND EXELON GENERATION COMPANY, LLC

E-37.

OMITTED

E-38.

DOCKET# ER03-836, 001, NEW YORK INDEPENDENT SYSTEM OPERATOR, INC.

E-39.

DOCKET# EL04-81, 000, ALLETE, INC.

E-40.

DOCKET# EL04-83, 000, MORGAN ENERGY CENTER, LLC

OTHER#S QF01-84, 001, MORGAN ENERGY CENTER, LLC

E-41.

DOCKET# EL03-221, 000, BOROUGH OF ZELIENOPLE, PENNSYLVANIA V. AMERICAN TRANSMISSION SYSTEMS, INC.

E-42.

DOCKET# EL04-54, 000, HAVILAND HOLDINGS, INC. V. SOUTHWEST POWER POOL, INC.

E-43.

DOCKET# EL04-55, 000, HAVILAND HOLDINGS, INC. V. PUBLIC SERVICE COMPANY OF NEW MEXICO

E-44.

DOCKET# EL04-57, 000, FPL ENERGY MARCUS HOOK, L.P. V. PJM INTERCONNECTION, L.L.C.

E-45.

DOCKET# EC99-81, 006, DOMINION RESOURCES, INC. AND CONSOLIDATED NATURAL GAS COMPANY

OTHER#S MG00-6, 009, DOMINION TRANSMISSION, INC.

E-46.

DOCKET# EL04-78, 000, MIDWEST ISO TRANSMISSION OWNERS

OTHER#S EL04-79, 000, MIDWEST STAND-ALONE TRANSMISSION COMPANIES

E-47.

DOCKET# EL03-54, 000, CITIES OF ANAHEIM, AZUSA, BANNING, COLTON, AND RIVERSIDE CALIFORNIA AND CITY OF VERNON, CALIFORNIA V. CALIFORNIA INDEPENDENT SYSTEM OPERATOR CORPORATION

E-48.

DOCKET# EL04-62, 000, INLAND POWER & LIGHT COMPANY

OTHER#S EL04-63, 000, EAST TEXAS ELECTRIC COOPERATIVE, INC.

EL04-64, 000, NORTH WEST RURAL ELECTRIC COOPERATIVE

EL04-67, 000, OREGON TRAIL ELECTRIC CONSUMERS COOPERATIVE, INC.

EL04-68, 000, BRIDGER VALLEY ELECTRIC ASSOCIATION, INC.

EL04-69, 000, WAYNE-WHITE COUNTIES ELECTRIC COOPERATIVE

E-49.

DOCKET# EL02-115, 000, AVISTA CORPORATION, AVISTA ENERGY, INC., ENRON POWER MARKETING, INC. AND PORTLAND GENERAL ELECTRIC COMPANY

E-50.

DOCKET# EL04-76, 000, BIG RIVERS ELECTRIC CORPORATION

E-51.

OMITTED

E-52.

DOCKET# ER03-689, 000, WPS CANADA GENERATION, INC., MAINE PUBLIC SERVICE COMPANY, AND THE NORTHERN MAINE INDEPENDENT SYSTEM ADMINISTRATOR, INC.

ER03-689, 001, WPS CANADA GENERATION, INC., MAINE PUBLIC SERVICE COMPANY, AND THE NORTHERN MAINE INDEPENDENT SYSTEM ADMINISTRATOR, INC.

ER03-689, 002, WPS CANADA GENERATION, INC., MAINE PUBLIC SERVICE COMPANY, AND THE NORTHERN MAINE INDEPENDENT SYSTEM ADMINISTRATOR, INC.

ER04-210, 000, WPS CANADA GENERATION, INC., MAINE PUBLIC SERVICE COMPANY, AND THE NORTHERN MAINE INDEPENDENT SYSTEM ADMINISTRATOR, INC.

E-53.

DOCKET# ID-3966, 001, MICHAEL J. CHESSER

E-54.

DOCKET# ER03-343, 004, ITC HOLDINGS CORPORATION, ITC HOLDINGS LIMITED PARTNERSHIP, INTERNATIONAL TRANSMISSION COMPANY, DTE ENERGY AND DETROIT EDISON COMPANY

OTHER#S ER03-576, 002, DETROIT EDISON COMPANY

E-55.

DOCKET# ER00-3109, 001, ADIRONDACK HYDRO DEVELOPMENT CORPORATION

OTHER#S ER96-1635, 008, BLACK HILLS PEPPERELL POWER ASSOCIATES, INC.

ER99-1248, 003, HARBOR COGENERATION COMPANY

ER99-2287, 001, BLACK HILLS POWER, INC.

ER00-1952, 001, BLACK HILLS COLORADO, LLC

ER01-1784, 004, FOUNTAIN VALLEY POWER, L.L.C.

ER01-1844, 001, BLACK HILLS GENERATION, INC.

Miscellaneous Agenda

M-1.

DOCKET# RM01-10, 001, STANDARDS OF CONDUCT FOR TRANSMISSION PROVIDERS

Markets, Tariffs and Rates—Gas

G-1.

DOCKET# RP04-92, 000, GEORGIA PUBLIC SERVICE COMMISSION

G-2.

DOCKET# RP03-563, 002, NORTHERN BORDER PIPELINE COMPANY

G-3.

DOCKET# RP04-12, 000, FLORIDA GAS TRANSMISSION COMPANY

OTHER#S RP04-12, 001, FLORIDA GAS TRANSMISSION COMPANY

RP04-12, 002, FLORIDA GAS TRANSMISSION COMPANY

G-4.

DOCKET# RP04-156, 000, NORTHWEST PIPELINE CORPORATION

G-5.

DOCKET# RP04-47, 000, HIGH ISLAND OFFSHORE SYSTEM, L.L.C.

G-6.

DOCKET# RP03-625, 000, CHANDELEUR PIPE LINE COMPANY

G-7.

DOCKET# RP03-460, 000, NORTHERN NATURAL GAS COMPANY

G-8.

DOCKET# RP04-87, 000, SOUTHERN STAR CENTRAL GAS PIPELINE INC.

G-9.

DOCKET# RP04-136, 002, IROQUOIS GAS TRANSMISSION SYSTEM, L.P.

G-10.

OMITTED

G-11.

DOCKET# RP96-389, 083, COLUMBIA GULF TRANSMISSION COMPANY

G-12.

DOCKET# RP03-280, 001, COLUMBIA GAS TRANSMISSION CORPORATION

G-13.

OMITTED

G-14.

DOCKET# RP03-64, 001, GULF SOUTH PIPELINE COMPANY, LP

OTHER#S RP03-64, 002, GULF SOUTH PIPELINE COMPANY, LP

G-15.

OMITTED

G-16.

DOCKET# RP03-612, 001, QUESTAR SOUTHERN TRAILS PIPELINE COMPANY

G-17.

DOCKET# RP03-343, 002, NORTHERN NATURAL GAS COMPANY

OTHER#S RP03-343, 001, NORTHERN NATURAL GAS COMPANY

G-18.

DOCKET# RP97-71, 021, TRANSCONTINENTAL GAS PIPE LINE CORPORATION

G-19.

OMITTED

G-20.

DOCKET# PR97-1, 002, CONSUMERS POWER COMPANY

G-21.

OMITTED

G-22.

DOCKET# OR04-1, 000, AMERIGAS PROPANE, LP, CHS INC., CONOCOPHILLIPS COMPANY, DYNEGY LIQUIDS MARKETING AND TRADE, FERRELLGAS, L.P., AND NATIONAL PROPANE GAS ASSOCIATION V. MID-AMERICA PIPELINE COMPANY, LLC

OTHER#S IS04-154, 001, MID-AMERICA PIPELINE COMPANY, LLC

G-23.

DOCKET# RP00-336, 018, EL PASO NATURAL GAS COMPANY

OTHER#S RP00-336, 025, EL PASO NATURAL GAS COMPANY

G-24.

DOCKET# RP04-61, 001, EL PASO NATURAL GAS COMPANY

G-25.

OMITTED

G-26.

DOCKET# RP04-218, 000, TRUNKLINE GAS COMPANY, LLC

Energy Projects—Hydro

H-1.

DOCKET# P-2017, 020, SOUTHERN CALIFORNIA EDISON COMPANY

H-2.

DOCKET# P-12020, 002, MARSEILLES HYDRO POWER, LLC

OTHER#S P-11863, 001, MARSEILLES LAND AND WATER COMPANY

Energy Projects—Certificates

C-1.

DOCKET# CP03-350, 000, GEORGIA STRAIT CROSSING PIPELINE LP

C-2.

DOCKET# CP93-117, 003, SAN DIEGO GAS & ELECTRIC COMPANY

C-3.

DOCKET# CP04-10, 000, ENCANA BORDER PIPELINES LIMITED AND OMIMEX CANADA, LTD.

OTHER#S CP04-11, 000, CHINOOK PIPELINE COMPANY AND OMIMEX CANADA, LTD.

C-4.

DOCKET# CP04-36, 000, WEAVER'S COVE ENERGY, LLC

OTHER#S CP04-41, 000, MILL RIVER PIPELINE, LLC

CP04-42, 000, MILL RIVER PIPELINE, LLC

CP04-43, 000, MILL RIVER PIPELINE, LLC

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 04-8428 Filed 4-9-04; 11:18 am]

BILLING CODE 6717-01-P